DEPARTMENT OF THE INTERIOR

Establishment of the Advisory Committee on the Bird Banding Laboratory

AGENCY: Geological Survey, Interior.

ACTION: Establishment of the Advisory Committee on the Bird Banding Laboratory Under the Federal Advisory Commitment Act.

SUMMARY: Following consultation with the General Services Administration, notice is hereby given that the Secretary of the Interior has established the Advisory Committee on the Bird Banding Laboratory under the Federal Advisory Committee Act.

FOR FURTHER INFORMATION CONTACT: Daniel L. James, 12201 Sunrise Valley Drive MS 301, Reston, Virginia 20192; 703-648-4253, dan_james@usgs.gov.

SUPPLEMENTARY INFORMATION: This notice is published in accordance with Section 9(a) of the Federal Advisory Committee Act of 1972 (Pub. L. 92-643). The purpose of the Advisory Committee will be to represent the interests of the bird banding community, including both game and non-game birds, in advising the U.S. Department of the Interior, U.S. Geological Survey (USGS), on current and future management of the Bird Banding Laboratory. The Committee will develop a clear, concise report defining a vision for the Bird Banding Laboratory over the next ten to fifteen years, and recommend priority actions that should be taken to address the needs of Federal and State regulatory agencies, as well as bird conservation, research, and banding organizations, to ensure the Laboratory's excellence into the 21st century.

In order for the Secretary to hear from the bird banding and data user community, Committee membership will include: The USGS; the U.S. Fish and Wildlife Service; the Canadian Wildlife Service; State wildlife conservation agencies; bird banding organizations; academia; professional and technical ornithological societies; and nonprofit conservation and bird hunting organizations. Expertise in the science of bird banding/marking and the application of the data to address game and non-game bird management, conservation, research, and policy issues, must be represented within the sectors listed above.

The Committee will function solely as an advisory body, and in compliance with the provisions of the Federal Advisory Committee Act. The Charter will be filed under the Act, 15 days from the date of publication of this notice.

Certification

I hereby certify that the establishment of a the Bird Banding Laboratory Advisory Committee is necessary and in the public interest in connection with the performance of duties by the Department of the Interior mandated pursuant to the Migratory Bird Treaty Act of 1918 (16 U.S.C., Pub. L. 703-712; as amended).

Dated: May 5, 2005.
Gale A. Norton,
Secretary of the Interior.

[FR Doc. 05-9772 Filed 5-16-05; 8:45 am]

BILLING CODE 3210-AK-M